DEPARTMENT OF AGRICULTURE

Food Safety and Inspection Service

9 CFR Part 317

Labeling, Marking Devices, and Containers

CFR Correction

In Title 9 of the Code of Federal Regulations, Part 200 to End, revised as of January 1, 2015, on page 218, make the following changes:

1. In § 317.344, remove the term “ground pork”.

2. In § 317.345, in paragraph (d), remove the word “should” and add in its place “for products covered in paragraphs (a)(1) and (a)(2) must”.

[FR Doc. 2015-32120 Filed 12-21-15; 8:45 am]

BILLING CODE 1505-01-D